DEPARTMENT OF COMMERCE

International Trade Administration

Application for Duty-Free Entry of Scientific Instrument

Pursuant to Section 6(c) of the Educational, Scientific and Cultural Materials Importation Act of 1966 (Pub. L. 89-651; 80 Stat. 897; 15 CFR part 301), we invite comments on the question of whether an instrument of equivalent scientific value, for the purposes for which the instrument shown below is intended to be used, is being manufactured in the United States.

Comments must comply with 15 CFR 301.5(a)(3) and (4) of the regulations and be filed within 20 days with the Statutory Import Programs Staff, U.S. Department of Commerce, Washington, DC 20230. Applications may be examined between 8:30 a.m. and 5 p.m. in Suite 4100W, U.S. Department of Commerce, Franklin Court Building, 1099 14th Street, NW., Washington, DC.

Docket Number: 02-031. Applicant: University of Colorado, JILA, UCB 440, JILA Building, Room S/175, Boulder, CO 80309.

Instrument: Nd:YAG Solid-state Laser. Manufacturer: InnoLight GmbH, Germany. Intended Use: The instrument is intended to be used for the purpose of Optical Frequency Standard and to investigate the frequency noise, amplitude noise, tunability thermal stability, and optical power of the laser. A high resolution iodine cell based spectrometer will be set up to explore sub-Doppler iodine spectra near 532 nm. The Nd:YAG laser frequency will be doubled and the information of the iodine signal will be used to control the laser frequency. Application accepted by Commissioner of Customs: July 11, 2002.

Gerald A. Zerdy,
Program Manager, Statutory Import Programs Staff.

[FR Doc. 02-19013 Filed 7-25-02; 8:45 am]

BILLING CODE 3510-DS-P